Presidential Determination No. 2009-28 of September 11, 2009

Imports of Certain Passenger Vehicle and Light Truck Tires From the People's Republic of China

Memorandum for the Secretary of Commerce[,] the Secretary of Labor[, and] the United States Trade Representative

On July 9, 2009, the United States International Trade Commission(USITC) submitted a report to me that contained a determination pursuant to its investigation under section 421 of the Trade Act of 1974, as amended (the “Trade Act”), that certain passenger vehicle and light truck tires from the People's Republic of China (China) are being imported into the United States in such increased quantities or under such conditions as to cause or threaten to cause market disruption to the domestic producers of like or directly competitive products.

By proclamation I have issued today (the “proclamation”), and after considering all relevant aspects of the investigation, I have proclaimed actions of the type described in section 421(a) of the Trade Act. I have determined that the most appropriate action is application of an additional duty on imports of certain passenger vehicle and light truck tires from China, as defined in paragraph 4 of the proclamation. I have also determined that such action shall be in effect for a period of 3 years.

Specifically, I have proclaimed an additional duty on imports of the products described in paragraph 4 of the proclamation, which for the first year shall be in the amount of 35 percent ad valorem above the column 1 general rate of duty. For the second year, the additional duty shall be in the amount of 30 percent ad valorem above the column 1 general rate of duty, and in the third year, the additional duty shall be in the amount of 25 percent ad valorem above the column 1 general rate of duty.

In order to assist workers, firms, and their communities that have been or are affected by the market disruption, I direct the Secretary of Commerce and the Secretary of Labor to expedite consideration of any Trade Adjustment Assistance applications received from domestic passenger vehicle and light truck tire producers, their workers, or communities and to provide such other requested assistance or relief as they deem appropriate, consistent with their statutory mandates.

The United States Trade Representative is authorized and directed to publish this memorandum in the Federal Register.

THE WHITE HOUSE,

Washington, September 11, 2009

[FR Doc. E9-22409

Filed 9-15-09; 8:45 am]

Billing code 3190-01-P